ENVIRONMENTAL PROTECTION AGENCY

[FRL-9286-6]

Science Advisory Board Staff Office; Notification of a Public Meeting of the Science Advisory Board Panel for the Oil Spill Research Strategy Review Panel

AGENCY: Environmental Protection Agency (EPA).

ACTION: Notice.

SUMMARY: The Environmental Protection Agency (EPA or Agency) Science Advisory Board (SAB) Staff Office announces a public face-to-face meeting of the SAB Panel to review EPA's Draft Oil Spill Research Strategy.

DATES: The meeting will be held on April 11, 2011 from 9 a.m. to 5 p.m. and April 12, 2011 from 8 a.m. to 12:30 p.m. (Eastern Time).

ADDRESSES: The Panel meeting will be held at the Omni Shoreham, 2500 Calvert Street, NW., Washington, DC 20008, Phone (202) 234-0700.

FOR FURTHER INFORMATION CONTACT: Any member of the public wishing further information regarding this meeting may contact Mr. Thomas Carpenter, Designated Federal Officer (DFO), SAB Staff Office, by telephone/voice mail at (202) 564-4885; by fax at (202) 565-2098 or via e-mail at General information concerning the EPA Science Advisory Board can be found at the EPA SAB Web site at http://www.epa.gov/sab. Any inquiry regarding EPA's Draft Oil Spill Research Strategy should be directed to Patricia Erickson, EPA Office of Research and Development (ORD), at erickson.patricia@epa.gov or (513) 569-7406.

SUPPLEMENTARY INFORMATION: Background: The SAB was established pursuant to the Environmental Research, Development, and Demonstration Authorization Act (ERDAA), codified at 42 U.S.C. 4365 to provide independent scientific and technical advice to the Administrator on the technical basis for Agency positions and regulations. The SAB is a Federal Advisory Committee chartered under the Federal Advisory Committee Act (FACA), 5 U.S.C., App. 2. Pursuant to FACA and EPA policy, notice is hereby given that an ad hoc SAB Panel will hold a public meeting to review EPA's Draft Oil Spill Research Strategy. The SAB will comply with the provisions of FACA and all appropriate SAB Staff Office procedural policies.

The Draft Oil Spill Research Strategy discusses proposed research and collaborative approaches for four activities related to oil spills: Dispersants, alternative remediation technologies, coastal inland restoration, and human health effects. The Deep Water Horizon spill identified the need for additional research on alternative spill response technologies; environmental impacts of chemical dispersants under deep sea application conditions; the fate and toxicity of dispersants and dispersed oil; chronic health effects for spill response workers and the public; and shoreline and wetland impacts, restoration and recovery. Accordingly, EPA developed the research strategy to address these needs, as they pertain to EPA's responsibilities for oil spills, and has requested that the SAB review their draft strategy.

EPA is seeking SAB review and comment regarding the Draft Oil Spill Research Strategy. Information about formation of the panel and the draft strategy can be found at http://yosemite.epa.gov/sab/sabproduct.nsf/fedrgstr_activites/Oil%20Spill%20Research%20Strategy?OpenDocument. The purpose of the April 11-12, 2011, meeting is for the Panel to discuss their review comments on EPA's draft Oil Spill Research Strategy.

Availability of Meeting Materials: The agenda and the draft EPA Oil Spill Research Strategy will be available on the SAB Web site at http://www.epa.gov/sab in advance of the meeting.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. Input from the public to the SAB will have the most impact if it consists of comments that provide specific scientific or technical information or analysis for SAB panels to consider or if it relates to the clarity or accuracy of the technical information included. Members of the public wishing to provide comment should contact the Designated Federal Officer for the relevant advisory committee directly.

Oral Statements: In general, individuals or groups requesting an oral presentation at this public meeting will be limited to five minutes per speaker. Interested parties should contact Mr. Thomas Carpenter, DFO, in writing (preferably via e-mail), at the contact information noted above, by March 25, 2011 to be placed on the list of public speakers for the meeting. Written Statements: Written statements should be received in the SAB Staff Office by March 25, 2011 so that the information may be made available to the SAB Oil Spill Research Review Panel for their consideration. Written statements should be supplied to the DFO in the following formats: One hard copy with original signature and one electronic copy via e-mail (acceptable file format: Adobe Acrobat PDF, WordPerfect, MS Word, MS PowerPoint, or Rich Text files in IBM-PC/Windows 98/2000/XP format). Submitters are requested to provide two versions of each document submitted: One each with and without signatures, because the SAB Staff Office does not publish documents with signatures on its Web sites. It is the SAB Staff Office general policy to post written comments on the Web page for the advisory meeting or teleconference. Members of the public should be aware that their contact information, if included in any written comments, will appear on the Web. Furthermore, special care should be taken not to include copy-righted material.

Accessibility: For information on access or services for individuals with disabilities, please contact Mr. Thomas Carpenter at the phone number or e-mail address noted above, preferably at least ten days prior to the meeting, to give EPA as much time as possible to process your request.

Dated: March 22, 2011.
Anthony F. Maciorowski,
Deputy Director, EPA Science Advisory Staff Office.

[FR Doc. 2011-7094 Filed 3-24-11; 8:45 am]

BILLING CODE 6560-50-P